OFFICE OF THE UNITED STATES TRADE REPRESENTATIVE

Determinations Under the African Growth and Opportunity Act: Correction

AGENCY: Office of the United States Trade Representative.

ACTION: Correction.

Correction to Previous Notice

In the Federal Register of October 23, 2002, Volume 67, Page 65169, the Office of the United States Trade Representative published a notice entitled “Determinations Under the African Growth and Opportunity Act.” A correction is being made to the information that appeared under SUPPLEMENTARY INFORMATION. The reference to Presidential Proclamation 7360 of October 2, 2000 was incorrect. The correct citation is Presidential Proclamation 7350 of October 2, 2000.

Rosa M. Whitaker,
Assistant United States Trade Representative for Africa, Office of the United States Trade Representative.

[FR Doc. 02-28063 Filed 11-4-02; 8:45 am]

BILLING CODE 3190-01-M